DEPARTMENT OF INTERIOR

Bureau of Indian Affairs

[167 A2100DD/AADD001000/A0A501010.999900]

Indian Land Consolidation Lien Removal and Acquisition Fund Disposition

AGENCY: Bureau of Indian Affairs, Interior.

ACTION: Notice of tribal consultation.

SUMMARY: This notice announces that the Department of the Interior (Department) is hosting a tribal consultation session regarding lien removal and Acquisition Fund disposition under the Indian Land Consolidation Program (ILCP).

DATES: The tribal consultation session will be held Thursday, June 9, 2016, from 9 a.m. to 12 p.m. Written comments must be received by June 17, 2016.

ADDRESSES: The tribal consultation session will be held in the Little Crow Room at Mystic Lake Casino-Hotel, 2400 Mystic Lake Blvd. NW., Prior Lake, MN 55372. Please address written comments to consultation@bia.gov or to: ILCP Waiver Comments, 1849 C Street NW., MS 3643, Washington, DC 20240.

FOR FURTHER INFORMATION CONTACT: Ms. Elizabeth K. Appel, Office of Regulatory Affairs & Collaborative Action, (202) 273-4680, elizabeth.appel@bia.gov.

SUPPLEMENTARY INFORMATION: Several tribes own interests in trust land that are subject to a lien held by the Department under the Indian Land Consolidation Act (Act). These tribes had participated in the ILCP to acquire individually owned interests and consolidate them into tribal ownership. The ILCP is no longer in operation, but the liens remain, and the revenue proceeds continue accruing to the Acquisition Fund. Likewise, funds remain in Acquisition Fund depository accounts. The Department seeks to consult with those Tribes that have ILCP liens and requests their input on its proposal to: (1) Remove existing liens on revenue accruing from land interests that tribes have purchased under the ILCP, and (2) dispose of the proceeds on deposit remaining in the Acquisition Fund by transferring the funds (segregated by tribe) to each impacted tribe's trust account, to be used by the tribe to purchase additional on-reservation fractionated interests in parcels.

Dated: May 5, 2016.
Lawrence S. Roberts,
Acting Assistant Secretary—Indian Affairs.

[FR Doc. 2016-11286 Filed 5-12-16; 8:45 am]

BILLING CODE 4337-15-P